ENVIRONMENTAL PROTECTION AGENCY

[ER-FRL-9042-7]

Environmental Impact Statements; Notice of Availability

Responsible Agency: Office of Federal, Activities, General Information 202-564-5632 or https://www.epa.gov/nepa/.

Weekly receipt of Environmental Impact Statements

Filed 11/26/2018 Through 11/30/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180292, Draft, RUS, WI, Cardinal-Hickory Creek 345-kV Transmission Line Project, Comment Period Ends: 02/05/2019, Contact: Dennis Rankin 202-720-1953.

EIS No. 20180293, Final, BLM, ID, Idaho Greater-Sage Grouse Proposed Resource Management Plan, Amendment and Final Environmental Impact Statement, Review Period Ends: 01/07/2019, Contact: Jonathan Beck 208-373-3841.

EIS No. 20180294, Final, BLM, NV, Nevada and Northeastern California Greater-Sage Grouse Proposed, Resource Management Plan Amendment and Final Environmental Impact Statement, Review Period Ends: 01/07/2019, Contact: Matt Magaletti 775-861-6400.

EIS No. 20180295, Final, BLM, WY, Wyoming Greater-Sage Grouse Proposed Resource Management Plan, Amendment and Final Environmental Impact Statement, Review Period Ends: 01/07/2019, Contact: Jennifer Fleuret 307-775-6329.

EIS No. 20180296, Final, BLM, CO, Northwest Colorado Greater-Sage Grouse Proposed Resource Management Plan, Amendment and Final Environmental Impact Statement, Review Period Ends: 01/07/2019, Contact: Bridget Clayton 202-244-3045.

EIS No. 20180297, Final, BLM, UT, Utah Greater-Sage Grouse Proposed Resource Management Plan, Amendment and Final Environmental Impact Statement, Review Period Ends: 01/07/2019, Contact: Quincy Bahr 801-539-4122.

EIS No. 20180298, Final, BLM, OR, Oregon Greater-Sage Grouse Proposed Resource Management Plan, Amendment and Final Environmental Impact Statement, Review Period Ends: 01/07/2019, Contact: James Regan-Vienop 503-808-6062.

EIS No. 20180299, Draft Supplement, FHWA, GSA, ME, New Madawaska Land Port of Entry and International Bridge Project, Comment Period Ends: 01/31/2019, Contact: Alexandria Kelly 617-549-8190.

EIS No. 20180300, Final, USACE, CA, Upper Llagas Creek Flood Protection Project, Review Period Ends: 01/11/2019, Contact: Keith D. Hess 707-443-0855.

EIS No. 20180301, Final Supplement, FTA, CA, Transbay Transit Center Program, Review Period Ends: 01/07/2019, Contact: Ted Matley 415-734-9468.

EIS No. 20180302, Draft Supplement, NMFS, WA, 10 Salmon and Steelhead Hatchery Programs in the Duwamish-Green River Basin, Comment Period Ends: 01/22/2019, Contact: Allyson Purcell 503-736-4736.

EIS No. 20180303, Draft, BOEM, MA, Vineyard Wind Offshore Wind Energy Project, Comment Period Ends: 01/21/2019, Contact: Michelle Morin 703-787-1722.

EIS No. 20180304, Draft, VA, CA, Draft Programmatic Environmental Impact Statement and National Historic Preservation Act Section 106 Consultation, West Los Angeles Medical Center Campus Proposed Master Plan for Improvements and Reconfiguration, Comment Period Ends: 01/21/2019, Contact: Glenn Elliott 202-632-5879.

EIS No. 20180305, Final, FTA, TX, DART Cotton Belt Corridor Regional Rail Project, Review Period Ends: 01/07/2019, Contact: Melissa Foreman 817-978-0554.

EIS No. 20180306, Final, Caltrans, CA, SR 710 North Study FEIR/FEIS, Review Period Ends: 01/07/2019, Contact: Jason Roach 213-897-0357.

Amended Notices

EIS No. 20180244, Draft, USFS, CA, Plumas National Forest Over-Snow Vehicle (OSV) Use Designation, Comment Period Ends: 01/24/2019, Contact: Katherine Carpenter 530-283-7742, Revision to FR Notice Published 10/26/2018; Extending the Comment Period from 12/10/2018 to 01/24/2019.

Dated: December 3, 2018.
Robert Tomiak,
Director, Office of Federal Activities.

[FR Doc. 2018-26577 Filed 12-6-18; 8:45 am]

BILLING CODE 6560-50-P